DEPARTMENT OF COMMERCE

National Oceanic and Atmospheric Administration

50 CFR Part 680

[Docket No. 130820737-5111-01]

RIN 0648-BD61

Fisheries of the Exclusive Economic Zone off Alaska; Bering Sea and Aleutian Islands Crab Rationalization Program; Amendment 45; Pacific Cod Sideboard Allocations in the Gulf of Alaska

AGENCY: National Marine Fisheries Service (NMFS), National Oceanic and Atmospheric Administration (NOAA), Commerce.

ACTION: Proposed rule; request for comments.

SUMMARY: NMFS issues a proposed rule that would implement Amendment 45 to the Fishery Management Plan for Bering Sea/Aleutian Islands King and Tanner Crabs (Crab FMP). If approved, Amendment 45 would establish, for a limited period of time, a process for NMFS to permanently remove Pacific cod catch limits, known as sideboard limits, which are applicable to certain hook-and-line catcher/processors in the Central and Western Gulf of Alaska (GOA) Regulatory Areas. This action would authorize NMFS to remove these Pacific cod sideboard limits in the Central and/or Western GOA if all eligible participants in the hook-and-line catcher/processor sector in a regulatory area sign and submit a request that NMFS remove the sideboard limit. Each eligible participant would be required to submit the request to NMFS within 1 year of the date of publication of a final rule implementing Amendment 45, if it is approved by the Secretary of Commerce (Secretary). This action is necessary to provide participants in the Central and Western GOA hook-and-line catcher/processor sectors with an opportunity to cooperatively coordinate harvests of Pacific cod through private arrangement to the participants' mutual benefit, which would remove the need for sideboard limits in these regulatory areas. This action is intended to promote the goals and objectives of the Magnuson-Stevens Fishery Conservation and Management Act (Magnuson-Stevens Act), the Crab FMP, and other applicable laws.

DATES: Submit comments on or before March 16, 2015.

ADDRESSES: You may submit comments, identified by NOAA-NMFS-2013-0133, by any of the following methods:

• Electronic Submission: Submit all electronic public comments via the Federal eRulemaking Portal. Go to www.regulations.gov/#!docketDetail;D=NOAA-NMFS-2013-0133, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the following documents may be obtained from http://www.regulations.gov or from the NMFS Alaska Region Web site at http://alaskafisheries.noaa.gov:

• The Regulatory Impact Review/Initial Regulatory Flexibility Analysis (RIR/IRFA), and the Categorical Exclusion prepared for this action (collectively referred to as the “Analysis”);

• The Harvest Specifications Supplemental Information Report (SIR) prepared for the final 2014 and 2015 harvest specifications;

• The Final Environmental Assessment/Final RIR/Initial IRFA for Amendment 83 to the Fishery Management Plan for Groundfish of the Gulf of Alaska (GOA FMP) Allocation of Pacific cod Among Sectors in the Western and Central GOA; and

• The Alaska Groundfish Harvest Specifications Final Environmental Impact Statement (Harvest Specifications EIS).

Written comments regarding the burden-hour estimates or other aspects of the collection-of-information requirements contained in this action may be submitted to NMFS at the above address and by email to OIRA_Submission@omb.eop.gov or fax to 202-395-5806.

FOR FURTHER INFORMATION CONTACT: Seanbob Kelly, 907-586-7228.

SUPPLEMENTARY INFORMATION: MFS proposes regulations to implement Amendment 45 to the Crab FMP. The king and Tanner crab fisheries in the exclusive economic zone (EEZ) of the Bering Sea and Aleutian Islands are managed under the Crab FMP. While the groundfish fisheries in the EEZ of the Gulf of Alaska are managed primarily under the Fishery Management Plan for Groundfish of the Gulf of Alaska (GOA FMP), some aspects of groundfish fishing in the Gulf of Alaska are managed under the Crab FMP. The Council prepared each fishery management plan pursuant to the Magnuson-Stevens Act and other applicable laws. Regulations implementing the Crab FMP appear at 50 CFR part 680. Regulations implementing the GOA FMP appear at 50 CFR part 679. General regulations governing U.S. fisheries also appear at 50 CFR part 600.

This proposed action would establish, for a limited period of time, a regulatory process for NMFS to permanently remove Pacific cod catch limits, known as sideboard limits, that are applicable to some participants in the Central GOA Regulatory Area (Central GOA) and Western GOA Regulatory Area (Western GOA) hook-and-line catcher/processor sectors. This proposed rule would modify regulations at 50 CFR 680.22(e) that currently require NMFS to establish Pacific cod sideboard limits for hook-and-line catcher/processors during the annual harvest specification process. Under this proposed rule, NMFS would not establish these sideboard limits for the Central or Western GOA if all participants eligible to use a hook-and-line catcher/processor to fish for Pacific cod in the regulatory area sign and submit to NMFS a request that NMFS remove the sideboard limit for that regulatory area. Each eligible participant would be required to submit that request to NMFS within 1 year of the date of publication of a final rule implementing Amendment 45, if approved by the Secretary. Each eligible participant in the Central and/or Western GOA must sign an affidavit, included on a form, to request that NMFS no longer establish Pacific cod sideboard limits for the hook-and-line catcher/processor sector in the Central and/or Western GOA. If NMFS receives the required affidavits within the time provided, NMFS would announce the permanent removal of the Central and/or Western GOA sideboard limits during the annual GOA groundfish specification process and would no longer establish Pacific cod sideboard limits for the hook-and-line catcher/processor sector in the Central and/or Western GOA. If NMFS does not receive the required affidavits within the time provided, NMFS would continue to establish GOA Pacific cod sideboard limits for the hook-and-line catcher/processor sectors through the annual GOA groundfish specification process.

To understand the proposed action, the following sections of the preamble describe: (1) General management of Pacific cod in the Central and Western GOA; (2) GOA Pacific cod sideboard limits established under the Bering Sea and Aleutian Islands Management Area (BSAI) Crab Rationalization Program; (3) recent allocations of Pacific cod in the GOA; (4) the effect of Pacific cod sideboard limits on hook-and-line catcher/processors in the Central and Western GOA; and (5) the proposed action.

General Management of Pacific Cod in the Central and Western GOA

NMFS implements conservation and management measures, such as catch limits, to prevent overfishing while achieving the optimum yield in federally managed fisheries. Catch limits for GOA Pacific cod are established as part of the annual harvest specifications process for GOA groundfish. A detailed description of the annual harvest specification process is provided in the Harvest Specifications EIS (see ADDRESSES), the Harvest Specifications SIR (see ADDRESSES), and the final 2014 and 2015 harvest specifications for groundfish of the GOA (79 FR 12890, March 6, 2014).

Regulations at § 679.20(a) require that the North Pacific Fishery Management Council (Council) annually recommend, and NMFS specify, an amount of catch at which overfishing is occurring (i.e., overfishing level or OFL), an acceptable biological catch (ABC), and a total allowable catch (TAC) for each stock or stock complex (i.e., species or species group). NMFS defines the ABC as the level of a species or species group's annual catch that accounts for the scientific uncertainty in the estimate of OFL and any other scientific uncertainty. The ABC is always set below the OFL. The TAC is defined as the annual catch target for a species or species group that is derived from the ABC after considering social and economic factors and management uncertainty. Separate TACs are calculated using the apportionment of TAC for specific regulatory areas to limit catch and ensure that fisheries can be effectively managed. Similarly, sideboard limits are calculated as a portion of the TACs for some groundfish species and established in the annual harvest specifications. Sideboard limits constrain harvests by specific vessels based on regulatory requirements established under various management programs.

Specific to this proposed action, the Council recommends, and NMFS implements an OFL and ABC for Pacific cod in the GOA, and separate TACs for the Eastern, Central, and Western GOA Pacific cod fisheries. NMFS limits harvest by vessels participating in the Pacific cod fisheries to these TACs to provide for a conservatively managed sustainable yield throughout the GOA. Once the TACs have been established, NMFS apportions each TAC among various gear types (e.g., pot or trawl gear), operation types (e.g., catcher vessels and catcher/processors), and sectors (e.g., hook-and-line catcher/processors) as required by regulation (see regulations at § 679.20(a)). Based on the regulatory area TACs for Eastern, Central, and Western GOA, as divided by the A season and B season, NMFS establishes sideboard limits for Pacific cod, as required by regulations (for example, see regulations at § 680.22(a) and (d)). The resulting sideboard limits, expressed in metric tons, are published in the annual GOA groundfish harvest specification notices (for the most recent example, see 79 FR 12890, March 6, 2014). As described in more detail in the following sections of this preamble, NMFS manages vessels subject to Pacific cod sideboard limits to ensure that these limits are not exceeded.

NMFS also manages Pacific cod fisheries through the License Limitation Program (LLP). A vessel is required to be named on an LLP license before it can be deployed to directed fish (i.e., specifically target) for groundfish in Federal fisheries in the GOA. The term “directed fishing” is defined in regulation at § 679.2. NMFS has issued a specific number of LLP licenses, which establish an upper limit on the total number of potential participants in GOA groundfish fisheries. LLP licenses are assigned endorsements for specific areas (e.g., Central or Western GOA), specific gear (e.g., trawl or hook-and-line gear), operation type (e.g., catcher vessel or catcher/processor), and in the case of vessels using hook-and-line or pot gear in the Central and Western GOA Pacific cod fisheries, a Pacific cod endorsement. LLP licenses must have the necessary endorsements for the fishing to be conducted. For example, in order for a vessel to be used to conduct directed fishing for Pacific cod in the Central GOA as a hook-and-line catcher/processor, the vessel must be named on an LLP license that has hook-and-line, catcher/processor, and Pacific cod endorsements for the Central GOA. Additional detail on the LLP is available in the final rule implementing the LLP (63 FR 52642, October 1, 1998), and in the final rule implementing Amendment 86 to the GOA FMP, which established Pacific cod endorsement requirements for hook-and-line and pot gear in the Central and Western GOA (March 22, 2011, 76 FR 15826).

GOA Pacific Cod Sideboard Limits Established Under the BSAI Crab Rationalization Program

The BSAI Crab Rationalization Program (CR Program) was implemented in 2005 and established a catch share program that allocates BSAI crab resources among harvesters, processors, and coastal communities (70 FR 10174, March 2, 2005). As part of the CR Program, eligible vessel owners and vessel captains were allocated quota share (QS) in several valuable crab fisheries, including the Bering Sea snow crab (Chionoecetes opilio) fishery (see Table 1 to 50 CFR part 680 and § 680.40(a) for a complete list of fisheries). The amount of crab QS assigned to each harvester is based on historic landings in these fisheries (see regulations at § 680.40(c)). The QS allocated to historic participants in the crab fisheries represents an exclusive harvest privilege, commonly known as a catch share. A catch share provides each qualified harvester with an annual allocation of a portion of the available TAC for each target species.

As a catch share program, the CR Program benefits eligible harvesters by allowing them to tailor their fishing to their specific exclusive harvest allocation. This allows harvesters to avoid a “race for fish,” in which participants compete against each other to maximize their catch before the TAC is reached. The CR Program provides increased flexibility for crab fishermen to choose when and where to fish or whether to lease their crab QS and fish for species other than crab. The Council and NMFS recognized that the benefits of the CR Program could create incentives for recipients of snow crab QS to increase their level of participation in groundfish fisheries, especially Pacific cod fisheries in the Central and Western GOA. Vessel owners that received snow crab QS were active in Pacific cod fisheries, and to a lesser extent pollock and other groundfish fisheries, in the GOA. Therefore, vessel owners receiving snow crab QS could increase their fishing effort in GOA groundfish fisheries because the allocation of snow crab QS provides an exclusive harvest privilege to each eligible vessel owner that can be leased, thereby providing the opportunity for those vessel owners to forgo crab harvests in the BSAI to directed fish for Pacific cod and other groundfish in the GOA.

Regulations implementing the CR Program established catch restrictions, known as CR Program GOA sideboards, to limit the potential adverse effects of the CR Program on GOA groundfish fisheries. These sideboards prevent CR Program participants from preempting fishermen in the GOA that did not receive benefits from the CR Program. The final rule implementing the CR Program (70 FR 10174, March 2, 2005) and Section 1.1.3 of the Analysis provide additional detail on the rationale for specific provisions of CR Program GOA sideboards. This preamble provides a summary of relevant provisions.

CR Program GOA sideboards apply to the owners and operators of vessels that (1) are not authorized to conduct directed fishing for pollock under the American Fisheries Act (AFA) of 1998 (Pub. L. 105-227, Title II of Division C); and (2) were used to fish for Bering Sea snow crab from 1996 through 2000. For this preamble, these vessels are termed “non-AFA crab vessels.” CR Program GOA sideboards also apply to any vessel that fishes under the authority of an LLP license originally issued to a non-AFA crab vessel. For this preamble, these LLP licenses are termed “non-AFA crab LLP licenses.”

When developing the CR Program GOA sideboards, the Council and NMFS recognized that individual non-AFA crab vessels and associated non-AFA crab LLP licenses had varying levels of historical participation in the GOA groundfish fisheries. Therefore, the Council and NMFS established two broad categories of CR Program GOA sideboards: (1) Sideboard limits for groundfish species other than Pacific cod that apply to all non-AFA crab vessels and non-AFA crab LLP licenses; and (2) sideboard provisions for Pacific cod that apply to all non-AFA crab vessels and non-AFA crab LLP licenses but that vary depending on the specific harvest patterns of the non-AFA crab vessel and its associated non-AFA crab LLP license. Because this proposed action would not modify GOA sideboard limits for groundfish species other than Pacific cod, only the GOA Pacific cod sideboard provisions are further described in this preamble.

The CR Program establishes three separate GOA Pacific cod sideboard provisions based on historic fishing patterns for Bering Sea snow crab and GOA Pacific cod by non-AFA crab vessels from 1996 through 2000. Many vessels active in the Bering Sea snow crab fisheries during this time also used pot gear to fish for Pacific cod in the GOA because the gear is similar to the pot gear used for fishing crab, and the vessels were well-suited to fishing for Pacific cod. Specifically, some non-AFA crab vessels, and the non-AFA crab LLP licenses associated with those vessels, had relatively little participation in GOA Pacific cod fisheries and relatively high levels of participation in Bering Sea snow crab fisheries; some had relatively high levels of participation in GOA Pacific cod fisheries and relatively little participation in Bering Sea snow crab fisheries; and some had relatively moderate levels of participation in both GOA Pacific cod fisheries and Bering Sea snow crab fisheries.

To recognize these three different participation patterns, the CR Program established three types of GOA Pacific cod sideboard provisions for non-AFA crab vessels and non-AFA crab LLP licenses. These three CR Program GOA Pacific cod sideboard provisions are: (1) A prohibition on directed fishing for GOA Pacific cod for those non-AFA crab vessels and LLP licenses that had relatively little participation in GOA Pacific cod fisheries and relatively high levels of participation in Bering Sea snow crab fisheries; (2) a GOA Pacific cod sideboard limit for those non-AFA crab vessels and LLP licenses that had relatively moderate levels of participation in both GOA Pacific cod fisheries and Bering Sea snow crab fisheries; and (3) an exemption from the CR Program GOA Pacific cod sideboard limits for those non-AFA crab vessels and LLP licenses that had relatively high levels of participation in GOA Pacific cod fisheries and relatively little participation in Bering Sea snow crab fisheries. Because this proposed action would not modify the prohibition on directed fishing for GOA Pacific cod or the exemption from CR Program GOA Pacific cod sideboard limits, only the sideboard provision described under (2) above that imposes GOA Pacific cod sideboard limits is further described in this preamble.

Those non-AFA crab vessels and non-AFA crab LLP licenses that are not prohibited from directed fishing for GOA Pacific cod or exempt from GOA Pacific cod sideboard limits are subject to specific annual limits on the maximum amount of Pacific cod that can be caught. These annual limits are known as CR Program GOA Pacific cod sideboard limits. These CR Program GOA Pacific cod sideboard limits are calculated based on the proportion of the GOA Pacific cod TACs in the Eastern, Central, and Western GOA harvested from 1996 through 2000 by non-AFA crab vessels subject to CR Program GOA Pacific cod sideboard limits (see regulations at § 680.22(a)(1)).

The CR Program created separate Pacific cod sideboard limits for the Eastern, Central, and Western GOA. CR Program GOA sideboard limits are established through the annual harvest specifications. Because the final annual harvest specifications for 2005 were effective before the final rule for the CR Program was effective, the CR Program GOA Pacific cod sideboard limits were first implemented in 2006 in the final 2006 and 2007 harvest specifications for groundfish of the GOA (71 FR 10870, March 3, 2006).

During a fishing year, NMFS manages CR Program GOA Pacific cod sideboard limits by tracking all catch of vessels subject to a sideboard limit to make sure the sideboard limits are not exceeded. NMFS opens directed fishing for GOA Pacific cod in a specific regulatory area by vessels subject to the CR Program GOA Pacific cod sideboard limit when it determines that all Pacific cod catch by those vessels, in directed fisheries and as incidental catch, would not exceed the sideboard limit in that area (see regulations at § 680.22(e)). NMFS prohibits directed fishing for GOA Pacific cod in a specific regulatory area by vessels subject to the CR Program GOA Pacific cod sideboard limit when it determines that the CR Program GOA Pacific cod sideboard limit is reached or the remainder of the sideboard limit is needed to account for incidental catch of Pacific cod by those vessels in other fisheries. NMFS will prohibit directed fishing for GOA Pacific cod in a specific regulatory area by vessels subject to the CR Program GOA Pacific cod sideboard limit through the annual harvest specifications if NMFS determines at the start of the fishing year that the CR Program GOA Pacific cod sideboard limit is insufficient to support a directed fishery by those vessels (see regulations at § 680.22(e)(2) and (3)).

Some of the vessels and LLP licenses active in the hook-and-line catcher/processor sector are subject to CR Program GOA Pacific cod sideboard limits. In general, the hook-and-line catcher/processor sector operates primarily in the BSAI, and to a lesser extent in the Central and Western GOA. The hook-and-line catcher/processor sector primarily targets Pacific cod. Recent estimates indicate that nearly 90 percent of the revenue from the hook-and-line catcher/processor sector is generated from directed fishing for Pacific cod (Section 1.6.2 of the Analysis provides additional detail on catch and revenue by the hook-and-line catcher/processor sector).

According to Section 1.6 of the Analysis, the hook-and-line catcher/processor sector operating in the EEZ off Alaska currently consists of 36 vessels. NMFS has determined that eight of these 36 vessels are subject to the CR Program GOA Pacific cod sideboard limits. The Federal Fisheries Permit (FFP) issued by NMFS to each of these eight vessels includes a designation indicating that the vessel is subject to the CR Program GOA Pacific cod sideboard limits. Of the LLP licenses that authorize a vessel to participate in the Central and/or Western GOA Pacific cod hook-and-line catcher/processor sector, NMFS has determined that five LLP licenses are subject to the CR Program GOA Pacific cod sideboard limits. These five LLP licenses include a designation indicating that the license is subject to the CR Program GOA Pacific cod sideboard limits (see Section 1.6 of the Analysis for more detail).

NMFS has determined that the number of vessels subject to CR Program GOA Pacific cod sideboard limits and that have been used as hook-and-line catcher/processors in the GOA (eight vessels) is slightly more than the number of vessels identified in the analysis available to the Council at the time the Council recommended this proposed action (six vessels). NMFS has identified the following list of eight vessels that have operated as hook-and-line catcher/processors in the GOA and that are subject to CR Program GOA Pacific cod sideboard limits: Aleutian Lady; Baranof; Beauty Bay; Bering Prowler; Blue Attu; Courageous; Siberian Sea; and US Liberator. NMFS has revised the Analysis to provide a full description of the vessels subject to the CR Program GOA Pacific cod sideboard limits and updated the assessment of the impacts of this proposed action. Section 1.6 of the Analysis provides additional detail.

The following sections of the preamble describe the allocation of Pacific cod in the GOA and the effects of this allocation on the management of CR Program GOA Pacific cod sideboard limits in the Central and Western GOA.

Allocations of Pacific Cod in the GOA

For the last 20 years, Pacific cod in the GOA has been managed under two management regimes—inshore/offshore management from the early 1990s through 2011 and sector management under Amendment 83 to the GOA FMP (Amendment 83) from 2012 until the present. Prior to 2012, Pacific cod in the GOA was apportioned on the basis of processor component (i.e., an inshore and an offshore component) and season, commonly known as inshore/offshore management. Under inshore/offshore management, 90 percent of the Eastern, Central, and Western GOA Pacific cod TACs were allocated to vessels catching Pacific cod for processing by the inshore component, and 10 percent to vessels catching Pacific cod for processing by the offshore component. In 2007, the Council recognized that, under inshore/offshore management, competition among participants in the Central and Western GOA Pacific cod fisheries had intensified beginning around 2005 relative to prior years. Because the Central and Western GOA Pacific cod TACs were divided by inshore and offshore processing components and not among gear or operation types, a race for fish existed among vessels in the inshore and the offshore components. All vessels using various types of gear (i.e., hook-and-line, jig, pot, and trawl) competed against each other for the harvest of the GOA Pacific cod TACs.

In response to this race for fish, the Council recommended, and NMFS approved, Amendment 83 in 2011 (76 FR 74670, December 1, 2011). Regulations implementing Amendment 83 became effective on January 1, 2012. Amendment 83 removed inshore/offshore management for Pacific cod in the Central and Western GOA and allocated Central and Western GOA Pacific cod TACs among a number of sectors composed of combinations of various gear types, operation types, and vessel size classes. The final rule implementing Amendment 83 defines these Pacific cod sectors (76 FR 74670, December 1, 2011). Sector allocations limit the amount of Central and Western GOA Pacific cod that each sector is authorized to catch. Amendment 83 was intended to reduce competition and support stability in the Pacific cod fishery. Amendment 83 did not change Pacific cod management in the Eastern GOA because the same level of competition, or race for fish, did not exist in the Eastern GOA compared to the Central and Western GOA. Therefore, Pacific cod in the Eastern GOA is still subject to inshore/offshore management.

Under the regulations implementing Amendment 83, allocations from the Central and Western GOA Pacific cod TACs are made first to the jig sector, and then to all other sectors. The allocations made to the various sectors, other than jig gear, were based on harvest during a range of years that reflected historic and recent patterns of harvest by each sector (see the final rule implementing Amendment 83 for additional detail (76 FR 74670, December 1, 2011)). Specific to this proposed action, regulations implementing Amendment 83 established sector allocations for hook-and-line catcher/processors in the Central GOA and the Western GOA. The hook-and-line catcher/processor sector receives 5.10 percent of the Central GOA Pacific cod TAC after allocation to jig gear, and 19.80 percent of the Western GOA Pacific cod TAC after allocation to jig gear (see § 679.20(a)(12)(i)(A) and (B)).

The allocations of Central and Western GOA Pacific cod to the hook-and-line catcher/processor sector can be harvested only by vessels that are named on an LLP license with Central and/or Western GOA, Pacific cod, hook-and-line, and catcher/processor endorsements (76 FR 74670, December 1, 2011). A total of 23 LLP licenses are endorsed for the Pacific cod hook-and-line catcher/processor sector in the Central GOA, and 18 LLP licenses are endorsed for the Pacific cod hook-and-line catcher/processor sector in the Western GOA (See Section 1.5 of the Analysis). Some of these LLP licenses are endorsed for both the Central and Western GOA; therefore, a total of 30 LLP licenses are endorsed for the Pacific cod hook-and-line catcher/processor sector in the Central or Western GOA. Twenty-seven of these 30 LLP licenses are also endorsed for the Bering Sea or Aleutian Islands Pacific cod hook-and-line catcher/processor sector. The three remaining LLP licenses are not endorsed for the BSAI Pacific cod hook-and-line catcher/processor sector, and fish exclusively in the GOA (see Section 1.5.4 of the Analysis for additional detail).

The Effect of Pacific Cod Sideboard Limits on Hook-and-Line Catcher/Processors in the Central and Western GOA

The CR Program GOA Pacific cod sideboard limits affected the eight vessels and the five LLP licenses subject to the sideboard limits differently starting in 2012 under Amendment 83 than under inshore/offshore management when the CR Program was first implemented in 2006 through 2011. When the CR Program GOA Pacific cod sideboard limits were implemented in 2006, CR Program Pacific cod GOA sideboard limits were divided between the inshore and offshore components in order to be consistent with inshore/offshore management measures in effect for Pacific cod at that time. From 2006 through 2011, the CR Program GOA Pacific cod sideboard limits were calculated by adding up the amount of harvest of all vessels subject to sideboards in the inshore or offshore components and dividing that by the catches of all vessels in either the inshore or offshore component to yield a sideboard ratio for the inshore and offshore components. The sideboard ratio was annually multiplied by the inshore or offshore TAC for the applicable area (e.g., Central or Western GOA) to yield a sideboard limit for that year. Finally, the sideboard limit was divided into the seasonal apportionments established for the Central and Western GOA and published in the Federal Register as part of the harvest specifications. For example, the Central GOA inshore component sideboard ratio for the Pacific cod A season (January 1 to June 10) was 0.0383, or 3.08%of the A season TAC, and the Western GOA inshore component sideboard ratio for the A season was 0.0902, or 9.02% of the A season TAC. Additional detail on this allocation process is provided in Table 16 of the final 2006 and 2007 harvest specifications for groundfish of the GOA (71 FR 10870, March 3, 2006) and in Section 1.5.3 of the Analysis.

Because the CR Program GOA Pacific cod sideboard limits were allocated among the inshore and offshore components, and not allocated among gear-specific sectors (e.g., hook-and-line gear, pot gear), the owners and operators of the eight sideboarded hook-and-line catcher/processors and the hook-and-line catcher/processors assigned to the five sideboarded LLP licenses competed with the other sideboarded participants in the inshore or offshore component, including vessels using other gear types (e.g., pot gear). This created a “race for sideboards” as the various vessels subject to CR Program GOA Pacific cod sideboard limits in the inshore and offshore components competed amongst each other. The hook-and-line catcher/processor sector was able to effectively harvest a large portion of the Pacific cod sideboard limits in the Central and Western GOA under these management conditions, as noted in Section 1.6.2 of the Analysis.

As illustrated in Table 1, the hook-and-line catcher/processor participants subject to CR Program GOA Pacific cod sideboard limits catch more Pacific cod in the BSAI than in the GOA; however, these participants increased participation in the GOA Pacific cod fishery from 2001 through 2004 and had relatively higher Pacific cod catch rates following the implementation of the CR Program GOA Pacific cod sideboard limits from 2006 through 2011 as compared to catch rates during the historic period used to calculate the sideboards (1996-2000). Since the implementation of operation and gear-specific CR Program GOA Pacific cod sideboard limits under Amendment 83 in 2012, hook-and-line catcher/processors subject to these sideboards have not harvested GOA Pacific cod.

Table 1—Average Catch in the GOA and BSAI by Hook-and-Line Catcher/Processors That Are Currently Subject to the CR Program GOA Pacific Cod Sideboards Relative to the Average Pacific Cod TAC Amounts for all Sectors in the BSAI and GOA: 1996 Through 2000, Catch During the Period Used To Calculate CR Program Sideboards; 2001-2004, Catch Prior To Implementation of CR Program; 2005-2011, Catch Following Implementation of CR Program; and 2012-2013, Catch Following Implementation of Gear and Operation Type Specific CR Program GOA Pacific Cod Sideboards Under Amendment 83
Time period | BSAI: TAC (mt) | BSAI: Catch (mt) | BSAI: Percent of TAC | GOA: TAC (mt) | GOA: Catch (mt) | GOA: Percent of TAC | Percent of GOA catch relative to total BSAI and GOA Pacific cod catch
1996-2000 | 224,000 | 7,988 | 4 | 65,345 | 266 | <1 | 3
2001-2004 | 202,750 | 15,480 | 8 | 46,228 | 792 | 2 | 5
2005-2011 | 187,816 | 22,046 | 12 | 53,474 | 634 | 1 | 3
2012-2013 | 260,500 | 31,819 | 12 | 63,150 | 0 | 0 | 0

During the development and implementation of Amendment 83, the Council and NMFS made reasoned and consistent decisions to maintain the years of catch history of GOA Pacific cod originally used to calculate the CR Program GOA Pacific cod sideboard limits (i.e., 1996 through 2000). In addition, the Council and NMFS clearly chose to base the CR Program GOA Pacific cod sideboard limits on harvests by specific sectors (e.g., hook-and-line catcher/processors, pot catcher/processors). The preamble to the final rule for Amendment 83 (76 FR 74670, December 1, 2011) and Section 1.5.4 of the Analysis provide additional detail. The net effect of these decisions is that CR Program GOA Pacific cod sideboard limits for the hook-and-line catcher/processor sector are based on the harvest of Pacific cod by non-AFA crab vessels and vessels using non-AFA crab LLP licenses that operated as hook-and-line catcher/processors during 1996 through 2000.

Overall, there was very limited harvest of Pacific cod by non-AFA crab vessels and vessels using non-AFA crab LLP licenses operating as hook-and-line catcher/processors in the Central and Western GOA from 1996 through 2000. Therefore, the sideboard limits established under Amendment 83 for GOA Pacific cod for vessels in the hook-and-line catcher/processor sector in the Central and Western GOA are a very small portion of the TACs. For example, the Central GOA hook-and-line catcher/processor sideboard ratio for the Pacific cod A season (January 1 to June 10) is 0.0012 or 0.12% of the A season TAC, and the Western GOA hook-and-line catcher/processor sideboard ratio for the Pacific cod A season is 0.0018 or 0.18% of the A season TAC. Additional detail is provided in the final 2014 and 2015 harvest specifications for groundfish of the GOA (79 FR 12890, March 6, 2014), and in Section 1.5.4 of the Analysis.

Since the implementation of Amendment 83, NMFS has prohibited directed fishing by participants subject to CR Program GOA Pacific cod sideboard limits in the hook-and-line catcher/processor sector in the Central and Western GOA. NMFS has made this determination each year based on the small amount of the sideboard limits, the need to account for incidental catch of Pacific cod by sideboarded hook-and-line catcher/processors in other groundfish fisheries in the Central and Western GOA, and the potential catch rates of Pacific cod by sideboarded hook-and-line catcher/processors relative to the sideboard limits. Additional information is provided in the final 2014 and 2015 harvest specifications for groundfish of the GOA (79 FR 12890, March 6, 2014) and in Section 1.5.4 of the Analysis.

In October 2011, the Council received public comment requesting that the Council and NMFS reconsider the method for applying the CR Program GOA Pacific cod sideboard limits as proposed under Amendment 83. This comment was received prior to the publication of the final rule implementing Amendment 83 on December 1, 2011 (76 FR 74670). Representatives of hook-and-line catcher/processor sector participants, who would be subject to CR Program GOA Pacific cod sideboard limits under Amendment 83, asserted that application of the proposed sideboard limits would eliminate the ability to directed fish in the Central and Western GOA Pacific cod fisheries. At its October 2011 meeting, the Council noted that the proposed sideboard ratios were included in the analysis for Amendment 83 and were considered by the Council at final action. As part of Amendment 83, the Council considered—and rejected—alternative methods for managing CR Program GOA Pacific cod sideboard limits (see Section 2.2.4 of the analysis prepared for Amendment 83). At the time the Council took action to recommend Amendment 83, the Council recognized that the CR Program GOA Pacific cod sideboard ratios resulting from the revised calculation method were not likely to provide enough TAC to support directed sideboard fisheries for all catcher/processor gear types, let alone for specific catcher/processor sectors such as the hook-and-line catcher/processor sector.

After considering public comment during the October 2011 meeting, the Council did not recommend rescinding or revising the method for calculating CR Program GOA Pacific cod sideboard limits, as proposed under Amendment 83. Therefore, NMFS implemented regulations under Amendment 83 that establish separate sideboard limits by sector, including sideboard limits specific to the hook-and-line catcher/processor sector in the Central and Western GOA (76 FR 74670, December 1, 2011). However, in October 2011, the Council did initiate an analysis to examine alternative methods for managing CR Program GOA Pacific cod sideboard limits that apply to the hook-and-line catcher/processor sector. During the development of this action, the Council considered the merits of removing the GOA Pacific cod hook-and-line C/P sideboard limits for the sideboarded vessels and LLP licenses. Under this approach, the eight vessels and five LLP licenses would continue to have CR Program sideboard designations affixed to them, but the sideboard designation would have no effect in fisheries, such as Central and Western GOA Pacific cod, for which no sideboard limit is established. After reviewing a discussion paper at its June 2012 meeting, the Council developed a problem statement and alternatives, and tasked staff to prepare an initial analysis of a proposed action to remove the Pacific cod sideboard limits in the Central and Western GOA. In February 2013, the Council reviewed an initial review analysis and added the option of removing the sideboard limits only if all eligible participants in the Central and Western GOA Pacific cod hook-and-line catcher/processor sectors submit an affidavit asking NMFS to remove the sideboard limits. Following a review of the analysis and considering public comment, the Council recommended Amendment 45 to the Crab FMP in June 2013. This action is intended to balance the Council's competing objectives: (1) To relieve the CR Program GOA Pacific cod sideboard limits for some vessels and LLP licenses that benefitted from allocations under the CR program, and (2) to protect the GOA-only participants from adverse impacts that may result from removal of those sideboard limits.

Proposed Action

This action is necessary to provide participants in the Central and Western GOA hook-and-line catcher/processor sectors with an opportunity to cooperatively coordinate harvests of Pacific cod through private arrangement to the participants' mutual benefit, which would remove the need for current regulations that impose sideboard harvest restrictions on some participants in the sectors. The Council determined and NMFS agrees that making the removal of the sideboard limits contingent on the equitable cooperation of all participants in the GOA Pacific cod hook-and-line catcher/processor sectors would ensure the management stability that is necessary for removal of the sideboard limits. This action would establish the regulatory conditions that must be met prior to the removal of CR Program GOA Pacific cod sideboard limits for the hook-and-line catcher/processor sectors in the Central and/or Western GOA. NMFS would remove the sideboard limits if each person holding an LLP license or LLP licenses with endorsements that authorize directed fishing for Pacific cod as a hook-and-line catcher/processor in the Central or Western GOA (i.e., eligible participants) provide NMFS with a signed form requesting that NMFS remove the Pacific cod sideboard limit for that regulatory area.

Under this proposed rule, all of the eligible participants in the Central or Western GOA would be required to submit to NMFS a completed Request to Extinguish Pacific Cod Sideboard Limit in the Central or Western GOA. The Council and NMFS determined that LLP license holders best represent the eligible participants in the Central and Western GOA hook-and-line catcher/processor sectors. As noted earlier in this preamble, an LLP license is required to deploy a vessel to conduct directed fishing for Pacific cod in the Central and Western GOA Pacific as a hook-and-line catcher/processor. Therefore, the holders of LLP licenses endorsed for Pacific cod, hook-and-line gear, and catcher/processor in the Central and/or Western GOA represent the complete range of all eligible participants. The Council and NMFS determined that the owners of vessels currently used in the Central and Western GOA hook-and-line catcher/processor sector are not the best representation of eligible participants. Vessels that are currently used as hook-and-line catcher/processors in the Central and Western GOA can become active in other fisheries, removed from the fishery, or replaced by other vessels. While vessels are needed to participate in the fishery, vessel ownership is not the defining eligibility criterion because a vessel may lack the LLP endorsements that authorize a vessel to participate in a fishery. Thus, the holders of LLP licenses with the necessary endorsements, rather than vessels owners, represent the universe of eligible fishery participants in the Central and Western GOA hook-and-line catcher/processor sectors.

The proposed rule would add Table 10 to Part 680. Proposed Table 10 to Part 680 would identify the 23 LLP licenses with endorsements that authorize a vessel to catch and process Pacific cod at-sea using hook-and-line gear in the Central GOA, and the 18 LLP licenses with endorsements that authorize a vessel to catch and process Pacific cod at-sea using hook-and-line gear in the Western GOA. The holders of the LLP licenses listed in proposed Table 10 to Part 680 would comprise the universe of participants eligible to request removal of a GOA Pacific cod sideboard limit. Each holder of an LLP license with Central GOA endorsements listed in proposed Table 10 to Part 680 would need to complete and submit to NMFS the form requesting removal of the CR Program GOA Pacific cod sideboard limit in the Central GOA. Similarly, each holder of an LLP license with Western GOA endorsements listed in proposed Table 10 to Part 680 would need to complete and submit to NMFS the form requesting removal of the CR Program GOA sideboard limit in the Western GOA.

The proposed rule would modify Federal regulations at § 680.22(e)(1) to establish a regulatory process for the removal of the CR Program GOA Pacific cod sideboard limits. Under the proposed rule, NMFS would permanently remove a CR Program GOA Pacific cod sideboard limit if NMFS receives the required form from each eligible participant in the Central GOA (see proposed regulations at § 680.22(e)(1)(ii)(A)) and Western GOA (see proposed regulations at § 680.22(e)(1)(ii)(B)). Although this proposed action is intended to provide an opportunity for coordination and cooperation among all eligible participants in both the Central and Western GOA, the Council and NMFS recognized that eligible participants may reach agreement to remove the CR Program GOA Pacific cod sideboard limit in one regulatory area, but not in the other regulatory area. By allowing the eligible participants to submit requests for each regulatory area separately, a CR Program GOA Pacific cod sideboard limit could be removed for one regulatory area without requiring all eligible participants in both areas to agree.

Proposed regulations at § 680.22(e)(1)(ii) would require that holders of the LLP licenses listed in Table 10 to Part 680 submit a completed form applicable to the Central or Western GOA no later than 1 year (365 days) after the date of publication in the Federal Register of the final rule implementing Amendment 45, if approved by the Secretary. The Council determined and NMFS agrees that a 1-year deadline would encourage negotiations and provide adequate opportunity for eligible participants in a regulatory area to reach agreement to submit the required form, but would not prolong management uncertainty about the potential applicability of the CR Program GOA Pacific cod sideboard limits. If the required forms are not received by NMFS by the date or the methods specified under proposed regulations at § 680.22(e)(1)(ii), the CR Program GOA Pacific cod sideboard limits would not be removed and the opportunity to remove them would expire.

The proposed regulations at § 680.22(e)(1)(ii) clarify that NMFS would not establish CR Program GOA Pacific cod sideboard limits for the hook-and-line catcher/processor sector in a regulatory area through the annual harvest specification process if NMFS receives completed request forms from all eligible participants in a regulatory area by the deadline. As noted earlier in this preamble, CR Program GOA Pacific cod sideboard limits are currently implemented through the annual harvest specification process; therefore, it follows that any modification to the sideboard limits must align with the annual harvest specifications cycle. Sideboard limits could not be removed immediately upon receipt by NMFS of the required forms. If NMFS would receive the required forms after the annual harvest specification cycle is completed, NMFS would remove a CR Program GOA Pacific cod sideboard limit for the hook-and-line catcher/processor sector during the next annual harvest specification cycle for GOA groundfish.

The proposed rule does not require eligible participants to enter into a private contractual agreement to coordinate fishing practices within that regulatory area prior to submitting to NMFS the required forms requesting removal of a CR Program GOA Pacific cod sideboard limit. However, the Council and NMFS anticipate that all eligible participants in the Central or Western GOA would reach a binding agreement to coordinate fishing practices within that regulatory area prior to submitting to NMFS the required forms requesting removal of a CR Program GOA Pacific cod sideboard limit. Voluntary agreements, or fishing cooperatives, have consistently proven to be effective at coordinating fishing practices and resolving conflicts among fishery participants in numerous fisheries throughout the BSAI and GOA (see Section 1.6.1 of the Analysis for additional detail). Any voluntary contractual agreements that may be reached by eligible participants are not required to be reviewed by or submitted to NMFS under the proposed rule. NMFS notes that it is highly unlikely that eligible participants who did not benefit from the CR Program would agree to request removal of a CR Program GOA Pacific cod sideboard limit unless they have established private agreements with all eligible participants that are beneficial to them.

If the holder of the LLP licenses listed in proposed Table 10 to Part 680 are unable, or unwilling, to agree to request that NMFS remove a CR Program GOA Pacific cod sideboard limit in a regulatory area within the proposed timeline, the sideboard limit for that regulatory area would continue to apply. Maintaining the CR Program GOA Pacific cod sideboard limits—if unanimous agreement for their removal is not reached by the eligible participants—is consistent with the objectives of sideboard management as established by the CR Program and the sideboard limit calculation method established under regulations implementing Amendment 83. Removing sideboard limits without unanimous agreement of all of the eligible participants could indicate that eligible participants have not agreed to coordinate harvests. This could increase the likelihood of a race for fish and could allow those who received QS under the CR Program to expand their efforts in the GOA Pacific cod fisheries. Such a result would not be consistent with the goals of the CR Program or the Council's objectives for this action.

The Council considered and rejected an option that would have suspended, rather than permanently removed, the CR Program GOA Pacific cod sideboard limits. The Council concluded that if eligible participants had to renegotiate and resubmit request forms each year, management and operational uncertainty among eligible participants would substantially increase, and could result in increased administrative burden and costs when compared to the permanent removal of the CR Program GOA Pacific cod sideboard limits as proposed by this action. Section 2.2 of the Analysis provides additional description about the potential costs and uncertainty resulting from this rejected approach.

This proposed action would not modify the CR Program GOA Pacific cod sideboard limits for hook-and-line catcher/processors in the Eastern GOA. As explained earlier, this action would not remove the sideboard designations on the FFPs for the eight sideboarded vessels or the five sideboarded LLP licenses, and these vessels and LLP licenses will still be subject to a CR Program Pacific cod sideboard limit if they are used in the Eastern GOA. As also noted earlier in this preamble, Amendment 83 did not modify CR Program GOA Pacific cod sideboard limits in the Eastern GOA. The Eastern GOA is still subject to inshore/offshore management. As a result, the CR Program GOA Pacific cod sideboard limits in the Eastern GOA were not recalculated for gear and operation type. Additionally, NMFS notes that this proposed action would not increase the likelihood that an OFL, ABC, TAC, or sector catch limit would be exceeded. As proposed, Pacific cod TACs and sector allocations would continue to be established through the annual GOA harvest specifications process and managed by NMFS as described earlier in this preamble.

Classification

Pursuant to sections 304(b)(1)(A) and 305(d) of the Magnuson-Stevens Act, the NMFS Assistant Administrator has determined that this proposed rule is consistent with the Crab FMP, GOA FMP, other provisions of the Magnuson-Stevens Act, and other applicable law, subject to further consideration after public comment.

This proposed rule has been determined to be not significant for the purposes of Executive Order 12866.

Initial Regulatory Flexibility Analysis

An initial regulatory flexibility analysis (IRFA) was prepared, as required by section 603 of the Regulatory Flexibility Act. The IRFA describes the economic impact this proposed rule, if adopted, would have on small entities. A description of the proposed action, why it is being considered, and the legal basis for this proposed action are contained at the beginning of this section in the preamble and in the SUMMARY section of the preamble and are not repeated here. While this IRFA concludes that no small entities will be directly regulated by this action, this is a result of the IRFA analysis, and NMFS has thus chosen not to certify that the proposed rule is not expected to have a significant economic impact on a substantial number of directly regulated small entities. A summary of the IRFA follows. A copy of the IRFA is available from NMFS (see ADDRESSES).

Number and Description of Small Entities Regulated by the Proposed Action

This proposed action would directly regulate eight entities. These eight entities include the owners of the eight vessels, and the holders of the five LLP licenses currently subject to CR Program GOA Pacific cod sideboard limits in the Central and Western GOA hook-and-line catcher/processor sectors. The owners of the eight vessels and holders of the five LLP licenses directly regulated by this proposed action are affiliated through their membership in the Freezer Longline Conservation Cooperative (FLCC). The FLCC represents LLP holders and the owners and operators of vessels that participate in the Pacific cod hook-and-line catcher/processor sector in the Federal waters of the BSAI. The FLCC is comprised of businesses that are engaged in the harvesting and processing of finfish. The annual revenue of members of the FLCC has exceeded $130 million per year since its formation, and $172 million in 2012, the most recent year of available revenue data (see Table 1-14 in Section 1.6 of the Analysis for additional detail).

Members of the FLCC are not considered small entities because the annual revenue of the cooperative exceeds the size standards for small entities. The Small Business Administration (SBA) has established size standards for all major industry sectors in the United States, including commercial finfish harvesters (NAICS code 114111), commercial shellfish harvesters (NAICS code 114112), other commercial marine harvesters (NAICS code 114119), for-hire businesses (NAICS code 487210), marinas (NAICS code 713930), seafood dealers/wholesalers (NAICS code 424460), and seafood processors (NAICS code 311710). A business primarily involved in finfish harvesting is classified as a small business if it is independently owned and operated, is not dominant in its field of operation (including its affiliates), and has combined annual gross receipts not in excess of $20.5 million, for all its affiliated operations worldwide. For commercial shellfish harvesters, the same qualifiers apply, except the combined annual gross receipts threshold is $5.5 million. For other commercial marine harvesters, for-hire fishing businesses, and marinas, the same qualifiers apply, except the combined annual gross receipts threshold is $7.5 million.

A business primarily involved in seafood processing is classified as a small business if it is independently owned and operated, is not dominant in its field of operation (including its affiliates), and has combined annual employment, counting all individuals employed on a full-time, part-time, or other basis, not in excess of 500 employees for all its affiliated operations worldwide. For seafood dealers/wholesalers, the same qualifiers apply, except the employment threshold is 100 employees.

In determining a number of employees, SBA counts all individuals employed on a full-time, part-time, or other basis. This includes employees obtained from a temporary employee agency, professional employee organization or leasing concern. SBA will consider the totality of the circumstances, including criteria used by the IRS for Federal income tax purposes, in determining whether individuals are employees of a concern. Volunteers (i.e., individuals who receive no compensation, including no in-kind compensation, for work performed) are not considered employees. Where the size standard is number of employees, the method for determining a concern's size includes the following principles: (1) The average number of employees of the concern is used (including the employees of its domestic and foreign affiliates) based upon numbers of employees for each of the pay periods for the preceding completed 12 calendar months; and (2) part-time and temporary employees are counted the same as full-time employees.

Three entities hold LLP licenses and own vessels that operate only in the GOA as hook-and-line catcher/processors. These three entities are not directly regulated by the CR Program GOA Pacific cod sideboard limits, and are not members of the FLCC. One entity owns a vessel named on an LLP license with Central GOA Pacific cod hook-and-line catcher/processor endorsements; the other two entities each own a vessel named on LLP licenses with Western GOA Pacific cod hook-and-line catcher/processor endorsements. These three entities are not directly regulated by this action because this action would not impose regulations on these vessels or the associated LLP licenses, or relieve them from regulation. These three entities may voluntarily choose to submit a request for removal of the sideboard limits under this action, but are not required to do so.

Duplicate, Overlapping, or Conflicting Federal Rules

No duplication, overlap, or conflict between this proposed action and existing Federal rules has been identified.

Description of Significant Alternatives that Minimize Adverse Impacts on Small Entities

The Council considered two alternatives for this action. Alternative 1 is the status quo, which does not meet the objectives of the action. Alternative 2 would remove the CR Program GOA Pacific cod sideboard limits in either the Central GOA, Western GOA, or both regulatory areas. As part of Alternative 2, the Council and NMFS also considered an option and a suboption for removing the CR Program GOA Pacific cod sideboard limits. The option (i.e., proposed action) would remove CR Program GOA Pacific cod sideboard limits for the hook-and-line catcher/processor sector permanently if certain conditions are met by a specified date. The sub-option would suspend the CR Program GOA Pacific cod sideboard limits for the hook-and-line catcher/processor sector on an annual basis if certain conditions are met annually.

The option would require all hook-and-line catcher/processor LLP license holders that are authorized to target Pacific cod in the Central or Western GOA (i.e., eligible participants) to submit a form to NMFS requesting the permanent removal of the GOA Pacific cod sideboard limit in that regulatory area on a one-time basis. The option would also require the request to be submitted within one year of the date of publication in the Federal Register of the final rule implementing Amendment 45, if approved by the Secretary.

The sub-option would require all eligible participants to annually submit a form to NMFS requesting removal of the GOA Pacific cod sideboard limit in that regulatory area for the upcoming fishing year. Under the sub-option, if the annual form is not received by NFMS, the sideboard limits would not be removed for the following fishing year (i.e., January 1 through December 31).

This proposed action would implement Alternative 2 with the option to permanently remove the CR Program GOA sideboard limits if all eligible participants in a regulatory area submit to NMFS a form requesting removal and provide that form to NMFS within the required timeline. The Council rejected the sub-option because the annual suspension of sideboards could create uncertainty for participants, result in additional administrative burden and costs, and potentially create management instability.

Although this proposed action does not directly regulate small entities, the preferred alternative is the only alternative in the suite of options and alternatives considered that reduces the burden on directly regulated entities and best meets the purpose and need for this proposed action.

Recordkeeping and Reporting Requirements

The reporting, recordkeeping, and other compliance requirements would be increased slightly under the proposed action if eligible participants in the Central or Western GOA agree to submit an affidavit to NMFS requesting removal of the CR Program GOA sideboard limits.

Collection-of-Information Requirements

This proposed rule contains a collection-of-information requirement subject to review and approval by the Office of Management and Budget (OMB) under the Paperwork Reduction Act (PRA). This requirement has been submitted to OMB for approval under OMB Control No. 0648-0334. Public reporting burden for the Request to Extinguish Pacific Cod Sideboard Limits for Hook-and-Line Catcher/Processors in the Western or Central GOA is estimated to average 30 minutes per individual response, including the time for reviewing instructions, searching existing data sources, gathering and maintaining the data needed, and completing and reviewing the collection of information.

Public comment is sought regarding: Whether this proposed collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to NMFS (see ADDRESSES) and by email to OIRA_Submission@omb.eop.gov or fax to 202-395-5806.

Notwithstanding any other provision of the law, no person is required to respond to, nor shall any person be subject to penalty for failure to comply with, a collection of information subject to the requirements of the PRA, unless that collection of information displays a currently valid OMB control number. All currently approved NOAA collections of information may be viewed at: http://www.cio.noaa.gov/services_programs/prasubs.html.

List of Subjects in 50 CFR Part 680

Alaska, Fisheries, Reporting and recordkeeping requirements.

Dated: February 6, 2015.
Samuel D. Rauch III,
Deputy Assistant Administrator for Regulatory Programs, National Marine Fisheries Service.

For the reasons set out in the preamble, 50 CFR part 680 is proposed to be amended as follows:

PART 680—SHELLFISH FISHERIES OF THE EXCLUSIVE ECONOMIC ZONE OFF ALASKA

1. The authority citation for 50 CFR part 680 continues to read as follows:

Authority: 16 U.S.C. 1862; Public Law 109-241; Public Law 109-479.

2. In § 680.22, revise paragraph (e) heading and introductory text, and paragraph (e)(1) to read as follows:

§ 680.22 Sideboard protections for GOA groundfish fisheries.

* * * * *

(e) Conversion of sideboard ratios into annual sideboard harvest limits. NMFS will convert sideboard ratios into annual sideboard harvest limits according to the following procedures.

(1) Annual sideboard harvest limits. (i) Except as provided in paragraph (e)(1)(ii) of this section, annual sideboard harvest limits for each groundfish species, except fixed-gear sablefish, will be established by multiplying the sideboard ratios calculated under paragraph (d) of this section by the proposed and final TACs in each area for which a TAC is specified. If a TAC is further apportioned by season, the sideboard harvest limit also will be apportioned by season in the same ratio as the overall TAC. The resulting harvest limits expressed in metric tons will be published in the annual GOA groundfish harvest specification notices.

(ii) NMFS will not establish an annual sideboard harvest limit for Pacific cod for vessels that catch and process Pacific cod using hook-and-line gear in the Central GOA Regulatory Area if all eligible participants request that the sideboard harvest limit be removed in accordance with the requirements of paragraph (e)(1)(ii)(A) of this section. NMFS will not establish an annual sideboard harvest limit for Pacific cod for vessels that catch and process Pacific cod using hook-and-line gear in the Western GOA Regulatory Area if all eligible participants request that the sideboard harvest limit be removed in accordance with the requirements of paragraph (e)(1)(ii)(B) of this section. NMFS will publish notification of the removal of the sideboard harvest limit for Pacific cod for vessels that catch and process Pacific cod using hook-and-line gear in the Central GOA Regulatory Area or the Western GOA Regulatory Area through the annual GOA groundfish harvest specifications (see § 679.20(c)(1)(iii) and (c)(3)(ii)).

(A) Central GOA. For the Central GOA Regulatory Area (Statistical Areas 620 and 630; see Figure 3 to 50 CFR part 679), the holders of all LLP licenses listed in Column A of Table 10 to this part must submit to NMFS a completed Request to Extinguish Pacific Cod Sideboard Limits for Hook-and-Line Catcher/Processors in the Western or Central GOA, and the request must be received by NMFS on or before [INSERT DATE 365 DAYS AFTER THE DATE OF PUBLICATION OF THE FINAL RULE IN THE Federal Register].

(B) Western GOA. For the Western GOA Regulatory Area (Statistical Area 610; see Figure 3 to 50 CFR part 679), the holders of all LLP licenses listed in Column B of Table 10 to this part must submit to NMFS a completed Request to Extinguish Pacific Cod Sideboard Limits for Hook-and-Line Catcher/Processors in the Western or Central GOA, and the request must be received by NMFS on or before [INSERT DATE 365 DAYS AFTER THE DATE OF PUBLICATION OF THE FINAL RULE IN THE Federal Register].

* * * * *

3. Add Table 10 to part 680 to read as follows:

Table 10 to Part 680—License Limitation Program License Numbers That Authorize the Owners and Operators of Catcher/Processors To Directed Fish for Pacific Cod With Hook-and-Line Gear in the Central Gulf of Alaska Regulatory Area (Column A) and in the Western Gulf of Alaska Regulatory Area (Column B)
Column A: | Column B:
LLG1125 | LLG1400.
LLG1128 | LLG1401.
LLG1400 | LLG1576.
LLG1576 | LLG1578.
LLG1713 | LLG1785.
LLG1785 | LLG1916.
LLG1916 | LLG1917.
LLG1917 | LLG2026.
LLG1989 | LLG2081.
LLG2081 | LLG2112.
LLG2112 | LLG2892.
LLG2238 | LLG2935.
LLG2705 | LLG3090.
LLG2783 | LLG3602.
LLG2892 | LLG3617.
LLG2958 | LLG3676.
LLG3609 | LLG4004.
LLG3616 | LLG4823.
LLG3617
LLG3676
LLG3681
LLG3973
LLG4823

[FR Doc. 2015-02911 Filed 2-11-15; 8:45 am]

BILLING CODE 3510-22-P